DEPARTMENT OF EDUCATION

Meeting of the Historically Black Colleges and Universities Capital Financing Advisory Board

AGENCY: Office of Postsecondary Education, Historically Black Colleges and Universities Capital Financing Board, U.S. Department of Education.

ACTION: Announcement of an open meeting.

SUMMARY: This notice sets forth the agenda, time, and location of an upcoming open meeting of the Historically Black Colleges and Universities Capital Financing Advisory Board (Board). Notice of this meeting is required by Section 10(a)(2) of the Federal Advisory Committee Act and is intended to notify the public of the opportunity to attend.

DATES: The Board meeting will be held on Tuesday, April 3, 2018, 10:00 a.m.-2:00 p.m., Central Time, in Room 313 (Bowden Alumni Center), Sutton Learning Center Building, St. Philip's College, 1801 Martin Luther King Drive, San Antonio, TX 78203.

FOR FURTHER INFORMATION CONTACT: Adam H. Kissel, Deputy Assistant Secretary for Higher Education Programs and the Designated Federal Official for the Board, U.S. Department of Education, 400 Maryland Avenue SW, Washington, DC 20202; telephone: (202) 453-6808; email: Adam.Kissel@ed.gov.

SUPPLEMENTARY INFORMATION:

The Historically Black Colleges and Universities Capital Financing Advisory Board's Statutory Authority and Function: The Historically Black Colleges and Universities Capital Financing Advisory Board (Board) is authorized by Title III, Part D, Section 347 of the Higher Education Act of 1965, as amended in 1998 (20 U.S.C. 1066f). The Board is established within the Department of Education to provide advice and counsel to the Secretary and the designated bonding authority as to the most effective and efficient means of implementing construction financing on historically black college and university campuses and to advise Congress regarding the progress made in implementing the Historically Black Colleges and Universities Capital Financing Program (Program). Specifically, the Board will provide advice as to the capital needs of Historically Black Colleges and Universities, how those needs can be met through the Program, and what additional steps might be taken to improve the operation and implementation of the Program.

Meeting Agenda: The purpose of this meeting is to update the Board on current program activities, set future meeting dates, enable the Board to make recommendations to the Secretary on the current capital needs of Historically Black Colleges and Universities, and discuss recommendations regarding how the Board might increase its effectiveness.

There will be an opportunity for members of the public to provide oral comment on Tuesday, April 3, 2018, 1:00 p.m.-1:30 p.m. Please be advised that comments cannot exceed five (5) minutes and must pertain to issues within the scope of the Board's authority. Members of the public interested in submitting written comments may do so by submitting comments to the attention of Adam H. Kissel, 400 Maryland Avenue SW, Washington, DC, 20202. Comments must be postmarked no later than Tuesday, March 27, 2018, to be considered for discussion during the meeting. Comments should pertain to the work of the Board or the Program.

Access to Records of the Meeting: The official verbatim transcripts of the Board's public meeting will be made available for public inspection no later than 60 calendar days following a meeting.

Pursuant to the FACA, 5 U.S.C. App. as amended, Section 10(b), the public may also inspect meeting materials at http://www2.ed.gov/about/bdscomm/list/hbcu-finance.html. Reasonable Accommodations: The meeting site is accessible to individuals with disabilities. If you will need an auxiliary aid or service to participate in the meeting (e.g., interpreting service, assistive listening device, or materials in an alternate format), notify the contact person listed in this notice at least two weeks before the scheduled meeting date. We will attempt to meet a request received after that date, though, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at www.federalregister.gov. Specifically, through the advanced search feature at this site, you can limit your search to documents published by the Department.

Authority: Title III, Part D, Section 347, of the Higher Education Act of 1965, as amended in 1998 (20 U.S.C. 1066f).

Frank T. Brogan,
Principal Deputy Assistant Secretary and delegated the duties of the Assistant Secretary, Office of Planning, Evaluation and Policy Development, Delegated the duties of the Assistant Secretary, Office of Postsecondary Education.

[FR Doc. 2018-05535 Filed 3-16-18; 8:45 am]

BILLING CODE 4000-01-P